ENVIRONMENTAL PROTECTION AGENCY

40 CFR Part 52

[EPA-R09-OAR-2014-0832; FRL-9925-33-Region 9]

Revisions to the California State Implementation Plan, Northern Sierra Air Quality Management District

AGENCY: Environmental Protection Agency (EPA).

ACTION: Direct Final rule.

SUMMARY: The Environmental Protection Agency (EPA) is taking direct final action to approve a revision to the Northern Sierra Air Quality Management District (NSAQMD or the District) portion of the California State Implementation Plan (SIP). The submitted SIP revision contains the District's demonstration regarding Reasonably Available Control Technology (RACT) requirements for the 1997 8-hour ozone National Ambient Air Quality Standards (NAAQS). The submitted SIP revision also contains negative declarations for volatile organic compound (VOC) source categories for the NSAQMD. We are approving the submitted SIP revision under the Clean Air Act as amended in 1990 (CAA or the Act).

DATES: This rule is effective on June 12, 2015 without further notice, unless EPA receives adverse comments by May 13, 2015. If we receive such comments, we will publish a timely withdrawal in the Federal Register to notify the public that this direct final rule will not take effect.

ADDRESSES: Submit comments, identified by docket number EPA-R09-OAR-2014-0832, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: James Shears, EPA Region IX, (213) 244-1810, shears.james@epa.gov.

SUPPLEMENTARY INFORMATION: Throughout this document, “we,” “us” and “our” refer to EPA.

Table of Contents

I. The State's Submittal.

A. What document did the State submit?

B. Are there other versions of document?

C. What is the purpose of the RACT SIP submission?

II. EPA's Evaluation and Action.

A. How is EPA evaluating the RACT SIP submission?

B. Does the RACT SIP submission meet the evaluation criteria?

C. EPA's recommendations to strengthen the RACT SIP.

D. Public comment and final action.

III. Statutory and Executive Order Reviews.

I. The State's Submittal

A. What document did the State submit?

Table 1 lists the document addressed by this action with the date that it was adopted by the local air agency and submitted to EPA by the California Air Resources Board (CARB).

Table 1—Submitted Document
Local Agency | Document | Adopted | Submitted
NSAQMD | 2007 Reasonably Available Control Technology (RACT) State Implementation Plan (SIP) for Western Nevada County 8-Hour Ozone Non-Attainment Area (“2007 RACT SIP”) | 6/25/07 | 2/7/08

The 2007 RACT SIP became complete by operation of law on August 7, 2008 pursuant to CAA 110(k)(1)(B).

B. Are there other versions of this document?

There is no previous submitted version of NSAQMD's 2007 RACT SIP.

C. What is the purpose of the RACT SIP submission?

Volatile organic compounds (VOCs) and nitrogen oxides (NOX) help produce ground-level ozone and smog, which harm human health and the environment. Section 110(a) of the CAA requires States to submit enforceable regulations that control VOC and NOX emissions. Sections 182(b)(2) and (f) require that SIPs for ozone nonattainment areas classified as moderate or above require implementation of RACT for any source covered by a CTG document and any other major stationary source of VOCs or NOX. The NSAQMD is subject to this requirement because it regulates western Nevada County, which is designated and classified as a subpart 2 moderate ozone nonattainment area for the 1997 8-hour ozone NAAQS (see 40 CFR 81.305). Therefore, NSAQMD must, at a minimum, adopt RACT-level controls for all sources covered by a CTG document and for all major non-CTG stationary sources of VOCs or NOX in western Nevada County.

II. EPA's Evaluation and Action

A. How is EPA evaluating the RACT SIP submission?

NSAQMD regulates a nonattainment area classified as subpart 2 moderate for the 1997 8-hour ozone NAAQS (see 40 CFR 81.305). CAA Section 182(b)(2) and (f), as well as 40 CFR 51.912(a)(1) require that SIPs for ozone nonattainment areas classified as moderate or above require implementation of RACT for any source covered by a CTG document and any other major stationary source of VOCs or NOX. Any stationary source that emits or has a potential to emit at least 100 tons per year (tpy) of VOCs or NOX in a moderate ozone nonattainment area is considered a major stationary source (see CAA sections 182(b(2)) and (f) and 302(j)). Where there are no existing sources covered by a particular CTG document or no other major stationary sources of VOCs or NOX, states may, in lieu of adopting RACT requirements, adopt negative declarations certifying that there are no such sources in the relevant nonattainment area (see Memorandum from William T. Harnett to Regional Air Division Directors, (May 18, 2006), “RACT Qs & As—Reasonably Available Control Technology (RACT) Questions and Answers” page 7).

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193).

Guidance and policy documents that we use to evaluate CAA section 182 RACT SIPs include the following:

1. “Final Rule to Implement the 8-Hour Ozone National Ambient Air Quality Standard—Phase 2” (70 FR 71612; November 29, 2005).

2. “Air Quality Designations and Classifications for the 8-Hour Ozone National Ambient Air Quality Standards; Early Action Compact Areas With Deferred Dates”—Final Rule (69 FR 23858; April 30, 2004).

3. “State Implementation Plans, General Preamble for the Implementation of Title I of the Clean Air Act Amendments of 1990” (57 FR 13498; April 16, 1992).

4. Issues Relating to VOC Regulation Cutpoints, Deficiencies, and Deviations: Clarification to Appendix D of November 24, 1987 Federal Register, May 25, 1988, Revised January 11, 1990, U.S. EPA, Air Quality Management Division, Office of Air Quality Planning and Standards (“The Blue Book”).

5. Guidance Document for Correcting Common VOC and Other Rule Deficiencies, August 21, 2001, U.S. EPA Region IX (the “Little Bluebook”).

6. “State Implementation Plans; Nitrogen Oxides Supplement to the General Preamble for the Implementation of Title I of the Clean Air Act Amendments of 1990” (57 FR 55620, November 25, 1992) (“the NOX Supplement”).

7. Memorandum from William T. Harnett to Regional Air Division Directors, (May 18, 2006), “RACT Qs & As—Reasonably Available Control Technology (RACT) Questions and Answers.”

8. RACT SIPs, Letter dated March 9, 2006 from EPA Region IX (Andrew Steckel) to CARB (Kurt Karperos) describing Region IX's understanding of what constitutes a minimally acceptable RACT SIP.

9. “Final Rule to Implement the 1997 8-Hour Ozone National Ambient Air Quality Standard: Classification of Areas That Were Initially Classified Under Subpart 1; Revision of the Anti-Backsliding Provisions To Address 1-Hour Contingency Measure Requirements; Deletion of Obsolete 1-Hour Standard Provision”—Final Rule (77 FR 28424; May 14, 2012).

10. “Model Volatile Organic Compound Rules for Reasonably Available Control Technology”, EPA (June 1992).

11. Beyond VOC RACT Requirements”, EPA (April 1995).

12. EPA's CTGs http://www.epa.gov/glo/SIPToolkit/ctgs.html.

13. CARB's emissions inventory database http://www.arb.ca.gov/app/emsinv/facinfo/facinfo.php

14. NSAQMD, CARB and EPA Region IX databases of NSAQMD rules—NSAQMD: http://myairdistrict.com/index.php?Itemid=71, CARB: http://www.arb.ca.gov/ridb.htm, EPA: http://epa.gov/region09/air/sips/index.html.

B. Does the RACT SIP submission meet the evaluation criteria?

The 2007 RACT SIP includes three elements, as described further below:

1. Evaluations of VOC and NOX rules for sources subject to a CTG.

2. Negative declarations where there are no facilities subject to a CTG.

3. Negative declaration for major non-CTG sources of VOC or NOX.

NSAQMD provided its 2007 RACT SIP for public comment prior to the public hearing for adoption. No written comments were received by the District. NSAQMD also supplemented 2007 RACT with various other submittals as described below.

1. Evaluations of VOC and NOX Rules for Sources Subject to a CTG

NSAQMD's 2007 RACT SIP referenced various VOC rules that apply to western Nevada County. Subsequent to its adoption of the 2007 RACT SIP on June 25, 2007, NSAQMD amended a number of these rules and submitted them to EPA for approval into the SIP. These submittals effectively supersede the 2007 RACT SIP with respect to Rules 213, 214, 215 and 228. The following rules were subsequently approved by EPA into the SIP: Rule 214 (78 FR 897, January 7, 2013), Rule 215 (76 FR 44493, July 26, 2011), Rule 227 (74 FR 56120, October 30, 2009), and Rule 228 (77 FR 47536, August 9, 2011). Rule 213 was rescinded by NSAQMD (April 25, 2011), and was incorporated into the SIP-approved Rule 214.

In our recent approvals of these rules, we found that the rules fulfilled RACT requirements. We are not aware of information suggesting that additional controls are needed to fulfill RACT since our approval of these rules. Therefore, we concur that NSAQMD implements has adopted RACT-level rules requirements for vapor recovery systems.

2. Negative Declarations Where There Are No Facilities Subject to a CTG

Table 2 of NSAQMD's 2007 RACT SIP lists not only CTGs, but also other documents relevant to establishing RACT at major sources. Negative declarations are only required for CTG source categories for which the District has no sources covered by the CTG. A negative declaration is not required for non-CTG source categories. Table 2 below lists the CTG source categories that remain after we excluded non-CTG documents from NSAQMD's 2007 RACT SIP Table 2. The District indicated it does not anticipate sources in these categories in the future. We searched CARB's emissions inventory database to verify there are no facilities in NSAQMD that might be subject to the CTGs listed below. We concur with the District's negative declarations.

On August 14, 2008 and May 17, 2011, CARB submitted NSAQMD's negative declarations for 10 CTGs issued or updated by EPA between 2006 and 2008. EPA approved these declarations on April 18, 2012 (77 FR 23130).

Table 2—NSAQMD Negative Declarations
CTG Source category | CTG Reference document
Aerospace | EPA-453/R-97-004, Aerospace CTG and MACT.
Automobile and Light-duty Trucks, Surface Coating of | EPA-450/2-77-008, Control of Volatile Organic Emissions from Existing Stationary Sources—Volume II: Surface Coating of Cans, Coils, Paper, Fabrics, Automobiles, and Light-Duty Trucks.
Cans and Coils, Surface Coating of | EPA-450/2-77-008, Control of Volatile Organic Emissions from Existing Stationary Sources—Volume II: Surface Coating of Cans, Coils, Paper, Fabrics, Automobiles, and Light-Duty Trucks.
Flat Wood Paneling, Surface Coating of | EPA-450/2-78-032, Control of Volatile Organic Emissions from Existing Stationary Sources—Volume VII: Factory Surface Coating of Flat Wood Paneling.
Gasoline Loading Terminals | EPA-450/2-77-026, Control of Hydrocarbons from Tank Truck Gasoline Loading Terminals.
Graphic Arts—Rotogravure and Flexography | EPA-450/2-78-033, Control of Volatile Organic Emissions from Existing Stationary Sources, Volume III: Graphic Arts—Rotogravure and Flexography.
Large Appliances, Surface Coating of | EPA-450/2-77-034, Control of Volatile Organic Emissions from Existing Stationary Sources—Volume V: Surface Coating of Large Appliances.
Large Petroleum Dry Cleaners | EPA-450/3-82-009, Control of Volatile Organic Compound Emissions from Large Petroleum Dry Cleaners.
Magnet Wire, Surface Coating for Insulation of | EPA-450/2-77-033, Control of Volatile Organic Emissions from Existing Stationary Sources—Volume IV: Surface Coating of Insulation of Magnet Wire.
Metal Furniture Coatings | EPA-450/2-77-032, Control of Volatile Organic Emissions from Existing Stationary Sources—Volume III: Surface Coating of Metal Furniture.
Natural Gas/Gasoline Processing Plants Equipment Leaks | EPA-450-83-007, Control of Volatile Organic Compound Equipment Leaks from Natural Gas/Gasoline Processing Plants.
Petroleum Liquid Storage in External Floating Roof Tanks | EPA-450/2-78-047, Control of Volatile Organic Compound Emissions from Petroleum Liquid Storage in External Floating Roof Tanks.
Petroleum Refineries | EPA-450/2-77-025, Control of Refinery Vacuum Producing Systems, Wastewater Separators, and Process Unit Turnarounds.
| EPA-450/2-78-036, Control of Volatile Organic Compound Leaks from Petroleum Refinery Equipment.
Pharmaceutical Products | EPA-450/2-78-029, Control of Volatile Organic Emissions from Manufacture of Synthesized Pharmaceutical Products.
Pneumatic Rubber Tires, Manufacture of | EPA-450/2-78-030, Control of Volatile Organic Emissions from Manufacture of Pneumatic Rubber Tires.
Polyester Resin | EPA-450/3-83-008, Control of Volatile Organic Compound Emissions from Manufacture of High-Density Polyethylene, Polypropylene, and Polystyrene Resins.
| EPA-450/3-83-006, Control of Volatile Organic Compound Leaks from Synthetic Organic Chemical Polymer and Resin Manufacturing Equipment.
Shipbuilding/Repair | EPA-450/3-94-032, Shipbuilding/Repair.
Solvent Metal Cleaning | EPA-450/2-77-022, Control of Volatile Organic Emissions from Solvent Metal Cleaning.
Synthetic Organic Chemical Manufacturing | EPA-450/3-84-015, Control of Volatile Organic Compound Emissions from Air Oxidation Processes in Synthetic Organic Chemical Manufacturing Industry.
| EPA-450/4-91-031, Control of Volatile Organic Compound Emissions from Reactor Processes and Distillation Operations in Synthetic Organic Chemical Manufacturing Industry.
Wood Furniture | EPA-453/R-96-007, Wood Furniture.

3. Negative Declaration for Major Non-CTG Sources of VOC or NOX

The 2007 RACT SIP included a negative declaration for major non-CTG sources of VOC and NOX. EPA agrees that there are no major non-CTG sources of NOX or VOCs in the western Nevada County nonattainment area.

4. Conclusion

We find that NSAQMD's 2007 RACT SIP submission, including the negative declarations and the rule revisions that were SIP-approved after 2007, adequately demonstrate that NSAQMD's rules satisfy RACT for the 1997 8-hour ozone NAAQS. Our TSD has more information on our evaluation.

C. EPA Recommendations To Strengthen the RACT SIP

Our TSD describes additional revisions that we recommend for the next time NSAQMD modifies the rules.

D. Public Comment and Final Action

As authorized in section 110(k)(3) of the Act, EPA is fully approving the submitted SIP revision because we believe it fulfills all relevant requirements. We do not think anyone will object to this approval, so we are finalizing it without proposing it in advance. However, in the Proposed Rules section of this Federal Register, we are simultaneously proposing approval of the same SIP revision. If we receive adverse comments by May 13, 2015, we will publish a timely withdrawal in the Federal Register to notify the public that the direct final approval will not take effect and we will address the comments in a subsequent final action based on the proposal. If we do not receive timely adverse comments, the direct final approval will be effective without further notice on June 12, 2015. This will incorporate these rules into the federally enforceable SIP.

Please note that if EPA receives adverse comment on a specific provision of this SIP revision and if that provision may be severed from the remainder of the SIP revision, EPA may adopt as final those provisions of the SIP revision that are not the subject of an adverse comment.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects using practical and legally permissible methods under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. Section 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 12, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of this Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: February 12, 2015.
Alexis Strauss,
Acting Regional Administrator, Region IX.

Part 52, chapter I, title 40 of the Code of Federal Regulations is amended as follows:

PART 52 [AMENDED]

1. The authority citation for part 52 continues to read as follows:

Authority: 42 U.S.C. 7401 et seq.

Subpart F—California

2. Section 52.220 is amended by adding paragraph (c)(456) to read as follows:

§ 52.220 Identification of plan.

* * * * *

(c) * * *

(456) New and amended regulations for the following APCDs were submitted on February 7, 2008 by the Governor's designee.

(i) [Reserved]

(ii) Additional Material.

(A) Northern Sierra Air Quality Management District.

(1) Reasonably Available Control Technology (RACT) State Implementation Plan (SIP) Revision for Western Nevada County 8-Hour Ozone Non-Attainment Area as adopted on June 25, 2007.

3. Section 52.222 is amended by adding paragraph (a)(9)(iii) to read as follows:

§ 52.222 Negative declarations.

(a) * * *

(9) * * *

(iii) EPA-453/R-97-004 Aerospace CTG and MACT; EPA-450/2-77-008 Control of Volatile Organic Emissions from Existing Stationary Sources—Volume II: Surface Coating of Cans, Coils, Paper, Fabrics, Automobiles, and Light-Duty Trucks; EPA-450/2-78-032, Control of Volatile Organic Emissions from Existing Stationary Sources—Volume VII: Factory Surface Coating of Flat Wood Paneling; EPA-450/2-77-026, Control of Hydrocarbons from Tank Truck Gasoline Loading Terminals; EPA-450/2-78-033, Control of Volatile Organic Emissions from Existing Stationary Sources—Volume III: Graphic Arts—Rotogravure and Flexography; EPA-450/2-77-034 Control of Volatile Organic Emissions from Existing Stationary Sources—Volume V: Surface Coating of Large Appliances; EPA-450/3-82-009, Control of Volatile Organic Compound Emissions from Large Petroleum Dry Cleaners; EPA-450/2-77-033 Control of Volatile Organic Emissions from Existing Stationary Sources—Volume IV: Surface Coating of Insulation of Magnet Wire; EPA-450/2-77-032 Control of Volatile Organic Emissions from Existing Stationary Sources—Volume III: Surface Coating of Metal Furniture; EPA-450-83-007, Control of Volatile Organic Compound Equipment Leaks from Natural Gas/Gasoline Processing Plants; EPA-450/2-78-047, Control of Volatile Organic Compound Emissions from Petroleum Liquid Storage in External Floating Roof Tanks; EPA-450/2-77-025 Control of Refinery Vacuum Producing Systems, Wastewater Separators, and Process Unit Turnarounds; EPA-450/2-78-036 Control of Volatile Organic Compound Leaks from Petroleum Refinery Equipment; EPA-450/2-78-029 Control of Volatile Organic Emissions from Manufacture of Synthesized Pharmaceutical Products; EPA-450/2-78-030 Control of Volatile Organic Emissions from Manufacture of Pneumatic Rubber Tires; EPA-450/3-83-008 Control of Volatile Organic Compound Emissions from Manufacture of High-Density Polyethylene, Polypropylene, and Polystyrene Resins; EPA-450/3-83-006 Control of Volatile Organic Compound Leaks from Synthetic Organic Chemical Polymer and Resin Manufacturing Equipment; EPA-450/3-94-032, Shipbuilding/Repair; EPA-450/2-77-022, Control of Volatile Organic Emissions from Solvent Metal Cleaning; EPA-450/3-84-015 Control of Volatile Organic Compound Emissions from Air Oxidation Processes in Synthetic Organic Chemical Manufacturing Industry; EPA-450/4-91-031 Control of Volatile Organic Compound Emissions from Reactor Processes and Distillation Operations in Synthetic Organic Chemical Manufacturing Industry; EPA-453/R-96-007, Wood Furniture.

* * * * *

[FR Doc. 2015-08421 Filed 4-10-15; 8:45 am]

BILLING CODE 6560-50-P